DEPARTMENT OF JUSTICE

Bureau of Alcohol, Tobacco, Firearms and Explosives

[OMB Number 1140-0076]

Agency Information Collection Activities; Proposed eCollection eComments Requested; Revision of a Currently Approved Collection; Application for Restoration of Explosives Privileges—ATF Form 5400.29

AGENCY: Bureau of Alcohol, Tobacco, Firearms and Explosives, Department of Justice.

ACTION: 60-day notice.

SUMMARY: The Department of Justice (DOJ), Bureau of Alcohol, Tobacco, Firearms and Explosives (ATF), will submit the following information collection request to the Office of Management and Budget (OMB) for review and approval in accordance with the Paperwork Reduction Act of 1995. The proposed information collection (IC) OMB 1140-0076 (Application for Restoration of Explosives Privileges—ATF Form 5400.29), is being revised to include multiple material and formatting changes. The proposed IC is also being published to obtain comments from the public and affected agencies.

DATES: Comments are encouraged and will be accepted for 60 days until July 13, 2020.

FOR FURTHER INFORMATION CONTACT: If you have additional comments, regarding the estimated public burden or associated response time, suggestions, or need a copy of the proposed information collection instrument with instructions, or additional information, please contact: Laura O'Lena, NCETR/Explosives Enforcement and Training Division, Explosives Enforcement Branch, either by mail at 3750 Corporal Road, Huntsville, Alabama 35898, by email at EROD@atf.gov, or by telephone at 256-261-7640.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection (check justification or form 83): Revision of a currently approved collection.

2. The Title of the Form/Collection: Application for Restoration of Explosives Privileges.

3. The agency form number, if any, and the applicable component of the Department sponsoring the collection:

Form number (if applicable): ATF Form 5400.29.

Component: Bureau of Alcohol, Tobacco, Firearms and Explosives, U.S. Department of Justice.

4. Affected public who will be asked or required to respond, as well as a brief abstract:

Primary: Individuals or households.

Other (if applicable): Business or other for-profit.

Abstract: Persons who wish to ship, transport, receive, or possess explosive materials, but are prohibited from doing so, must complete the Application for Restoration of Explosives Privileges—ATF Form 5400.29. The completed form must be submitted to ATF, to determine if the applicant is likely to act in a manner that endangers public safety, and that granting relief is not contrary to the public interest.

5. An estimate of the total number of respondents and the amount of time estimated for an average respondent to respond: An estimated 300 respondents will utilize the form annually, and it will take each respondent approximately 30 minutes to complete the form.

6. An estimate of the total public burden (in hours) associated with the collection: The estimated annual public burden associated with this collection is 150 hours, which is equal to 300 (# of respondents) * 1 (# responses per respondents) * .5 (30 minutes or the total time to complete each response).

7. An Explanation of the Change in Estimates: The adjustment to this IC include an increase in the public burden cost to $ 9,765, which is due to inclusion of the cost to conduct ATF in-person interviews with both the respondent's supervisor and a coworker, as well as mailing costs.

If additional information is required contact: Melody Braswell, Department Clearance Officer, United States Department of Justice, Justice Management Division, Policy and Planning Staff, Two Constitution Square, 145 N Street NE, 3E.405A, Washington, DC 20530.

Dated: May 11, 2020.
Melody Braswell,
Department Clearance Officer for PRA, U.S. Department of Justice.

[FR Doc. 2020-10366 Filed 5-13-20; 8:45 am]

BILLING CODE 4410-02-P